DEPARTMENT OF HOMELAND SECURITY

Coast Guard

33 CFR Part 117

[Docket No. USCG-2015-0708]

Drawbridge Operation Regulation; Petaluma River, Petaluma, CA

AGENCY: Coast Guard, DHS.

ACTION: Notice of deviation from drawbridge regulation.

SUMMARY: The Coast Guard has issued a temporary deviation from the operating schedule that governs the Haystack Landing Drawbridge across the Petaluma River, mile 12.4, at Petaluma, CA. The deviation is necessary to allow the bridge owner to replace the bridge. This deviation allows the bridge to remain in the closed-to-navigation position during the deviation period.

DATES: This deviation is effective without actual notice from September 4, 2015 to 6 p.m. on October 19, 2015. For the purposes of enforcement, actual notice will be used from 6 a.m. on August 31, 2015, until September 4, 2015.

ADDRESSES: The docket for this deviation, [USCG-2015-0708], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: Sonoma Marin Area Rail Transit has requested a temporary change to the operation of the Haystack Landing Drawbridge across the Petaluma River, mile 12.4, at Petaluma, CA. The drawbridge navigation span provides approximately 3 feet vertical clearance above Mean High Water in the closed-to-navigation position. In accordance with 33 CFR 117.187(a), the draw is maintained in the fully open position, except for the crossing of trains or for maintenance. Navigation on the waterway is commercial and recreational.

The drawspan will be periodically secured in the closed-to-navigation position, during daylight hours from 6 a.m. on August 31, 2015 to 6 p.m. on October 19, 2015, due to bridge replacement construction. During daylight hours, the bridge will be secured in the closed to navigation position for construction, and will require four hours advance notice for bridge openings for commercial vessels moving on the tide.

Scheduled 30-minute bridge openings will be provided at midday for the passage of accumulated, small vessels. The bridge will be secured in the open-to-navigation position nights and weekends, when no work is in progress. This temporary deviation has been coordinated with the waterway users.

Vessels able to pass through the bridge in the closed position may do so at anytime. The bridge will be able to open for emergencies upon two hours advance notice. There is no alternative route available for vessel traffic. The Coast Guard will inform waterway users of this temporary deviation via our Local and Broadcast Notices to Mariners to minimize resulting navigational impacts.

In accordance with 33 CFR 117.35(e), the drawbridge must return to its regular operating schedule immediately at the end of the effective period of this temporary deviation. This deviation from the operating regulations is authorized under 33 CFR 117.35.

Dated: August 21, 2015.
D.H. Sulouff,
District Bridge Chief, Eleventh Coast Guard District.

[FR Doc. 2015-22025 Filed 9-3-15; 8:45 am]

BILLING CODE 9110-04-P